DEPARTMENT OF THE INTERIOR

Bureau of Land Management

[18X LLWO600000.L18200000.XP0000]

Call for Nominations to the Steens Mountain Advisory Council

AGENCY: Bureau of Land Management, Interior.

ACTION: Notice of call for nominations.

SUMMARY: The purpose of this notice is to request public nominations to the Bureau of Land Management's (BLM) Steens Mountain Advisory Committee. This citizen-based committee assists in the development of recommendations that address management of the Steens Mountain Cooperative Management and Protection Area and in promoting cooperative management under the Steens Act.

DATES: All nominations must be received no later than October 21, 2021.

ADDRESSES: Nominations and completed applications should be sent to the BLM office listed in the SUPPLEMENTARY INFORMATION section of this notice.

FOR FURTHER INFORMATION CONTACT: Carrie Richardson, BLM Office of Communications, 1849 C Street NW, Room 5614, Washington, DC 20240; email: crichardson@blm.gov; telephone: 202-501-2634. Persons who use a telecommunications device for the deaf (TDD) may call the Federal Relay Service (FRS) at 1-800-877-8339 to contact Ms. Richardson during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act. The rules governing advisory councils are found at 43 CFR subpart 1784.

Individuals may nominate themselves or others for appointment by the Secretary. Nominees must be residents of the State in which the advisory committee has jurisdiction. The BLM will evaluate nominees based on their education, training, experience, and knowledge of the geographic area of the advisory committee. Nominees should demonstrate a commitment to collaborative resource decision-making.

Simultaneous with this notice, the BLM Oregon State Offices will issue a press release providing additional information for submitting nominations.

Before including any address, phone number, email address, or other personal identifying information in the application, nominees should be aware this information may be made publicly available at any time. While the nominee can ask to withhold the personal identifying information from public review, the BLM cannot guarantee that it will be able to do so.

Oregon/Washington

Steens Mountain Advisory Council (SMAC)

Tara Thissell, BLM Burns District Office, 28910 Hwy. 20 West, Hines, OR 97738; Phone: (541) 573-4519.

To Apply to the SMAC: Nomination forms and instructions can be obtained by mail through phone request or online at https://www.blm.gov/sites/blm.gov/files/RPMC%20Nomination%20Form.pdf.

Nominees should note the interest area(s) they are applying to represent on their application. All applications must be accompanied by letters of reference that describe the nominee's experience and qualifications to serve on the SMAC from any represented interests or organizations, a completed SMAC application, and any other information that speaks to the nominee's qualifications. The SMAC consists of 13 members that include a private landowner in the Steens Mountain Cooperative Management and Protection Area (CMPA); two representatives who are grazing permittees on Federal lands in the CMPA; a representative interested in fish and recreational fishing in the CMPA; a representative of the Burns Paiute Tribe; two representatives who are recognized environmental representatives, one of whom shall represent the State as a whole, and one of whom is from the local area; a representative who participates in dispersed recreation, such as hiking, camping, nature viewing, nature photography, bird watching, horseback riding, or trail walking; a representative who is a recreational permit holder or is a representative of a commercial recreation operation in the CMPA; a representative who participates in mechanized or consumptive recreation, such as hunting, fishing, off-road driving, hang gliding, or parasailing; a representative with expertise and interest in wild horse management on Steens Mountain; a representative who has no financial interest in the CMPA to represent statewide interests; and one non-voting representative to serve as the State government liaison to the Council.

Members of the SMAC appointed as special Government employees (SGEs) are subject to applicable Federal ethics statutes and regulations, to include applicable exceptions and exemptions. Additionally, SGE members are required, prior to appointment and annually thereafter, to file a Confidential Financial Disclosure Report. SGE members are also required to receive initial ethics training prior to performing any SMAC duties and to receive annual ethics training thereafter. The Department of the Interior will provide materials to those members serving as special Government employees, explaining their ethical obligations.

(Authority: 43 CFR 1784.4-1)

Matthew Buffington,
Assistant Director for Communications.

[FR Doc. 2021-20316 Filed 9-20-21; 8:45 am]

BILLING CODE 4310-84-P